DEPARTMENT OF COMMERCE

National Oceanic and Atmospheric Administration

[RTID 0648-XB909]

Caribbean Fishery Management Council; Public Meeting

AGENCY: National Marine Fisheries Service (NMFS), National Oceanic and Atmospheric Administration (NOAA), Commerce.

ACTION: Notice of public meeting (in-person/virtual hybrid).

SUMMARY: The Caribbean Fishery Management Council (CFMC) will hold the 178th public hybrid meeting to address the items contained in the tentative agenda included in the SUPPLEMENTARY INFORMATION.

DATES: The 178th CFMC public hybrid meeting will be held on April 19, 2022, from 9 a.m. to 4:45 p.m., and on April 20, 2022, from 9 a.m. to 4 p.m. AST.

ADDRESSES:

Meeting address: The meeting will be held at the Courtyard by Marriott Isla Verde Beach Resort, 7012 Boca de Cangrejos Avenue, Carolina, Puerto Rico 00979.

You may join the 178th CFMC public hybrid meeting via Zoom, from a computer, tablet or smartphone by entering the following address:

Join Zoom Meeting:

https://us02web.zoom.us/j/83060685915?pwd=VmVsc1orSUtKck8xYk1XOXNDY1ErZz09.

Meeting ID: 830 6068 5915.

Passcode: 995658.

One tap mobile:

+17879451488,,83060685915#,,,,,,0#,,995658# Puerto Rico

+17879667727,,83060685915#,,,,,,0#,,995658# Puerto Rico

Dial by your location:

+1 787 945 1488 Puerto Rico

+1 787 966 7727 Puerto Rico

+1 939 945 0244 Puerto Rico

Meeting ID: 830 6068 5915.

Passcode: 995658.

In case there are problems and we cannot reconnect via Zoom, the meeting will continue using GoToMeeting.

You can join the meeting from your computer, tablet or smartphone. https://global.gotomeeting.com/join/971749317.

You can also dial in using your phone. United States: +1 (408) 650-3123 Access Code: 971-749-317.

FOR FURTHER INFORMATION CONTACT: Miguel A. Rolón, Executive Director, Caribbean Fishery Management Council, 270 Muñoz Rivera Avenue, Suite 401, San Juan, Puerto Rico 00918-1903, telephone: (787) 398-3717.

SUPPLEMENTARY INFORMATION: The following items included in the tentative agenda will be discussed:

April 19, 2022

9 a.m.-9:45 a.m.

—Call to Order

—Roll Call

—Adoption of Agenda

—Consideration of 176th and 177th Council Meetings Verbatim Transcriptions

—Executive Director's Report

9:45 a.m.-10 a.m.

—Outcomes of the Moored Fishery Aggregating Devices (FAD) Working Group Meeting—Rachel O'Malley, Office of International Affairs, Tray and Commerce, NOAA

10 a.m.-10:45 a.m.

—Island-Based Fishery Management Plans (IBFMP) and Amendments Update—María López-Mercer, Sarah Stephenson, SERO/NOAA Fisheries

—IBFMP Implementation Update

—Spiny Lobster Amendment Status Update

—Spiny Lobster Overfishing Limit/Acceptable Biological Catch Update and Council's Request to NOAA Fisheries

—Gear Amendment: Modification to Buoy Gear Status Update

10:45 a.m.-11 a.m.

—Break

11 a.m.-12 p.m.

—Potential Actions for IBFMP Amendments—María López-Mercer, Sarah Stephenson, NOAA Fisheries

—Trawling and Other Net Gear—Options Paper

—Pelagic Species Management Measures—White Paper

12 p.m.-1 p.m.

—Lunch Break

1 p.m.-1:30 p.m.

—Ecosystem-Based Fishery Management Technical Advisory Panel Report—Sennai Habtes, Chair

1:30 p.m.-2 p.m.

—Scientific and Statistical Committee Report—Richard Appeldoorn, Chair

2 p.m.-2:30 p.m.

—Southeast Fishery Science Center Updates—Kevin McCarthy, SEFSC

2:30 p.m.-3:15 p.m.

—District Advisory Panel Chairs Report on March 2022 Meetings (15 minutes each)

—St. Thomas/St. John—Julian Magras, Chair

—St. Croix—Edward Schuster, Chair

—Puerto Rico—Nelson Crespo, Chair

3:15 p.m.-3:30 p.m.

—Identifying Critical Habitats of Juvenile Nassau Grouper in Puerto Rico—Chelsea Harms-Touhy

3:30 p.m.-3:45 p.m.

—Break

3:45 p.m.-4:30 p.m.

—Dolphin Fish Studies on Fish Aggregation Devices—Wessley Merten

4:30 p.m.

—Adjourn for the day

4:45 p.m.

—Closed Session

April 20, 2022

9 a.m.-9:30 a.m.

—Understanding Essential Fish Habitat of Queen and Cardinal Snappers and Associated Fish Communities of the Deep-Water Snapper Fishery: From Fishers' Knowledge to Scientific Language—Jorge García-Sais

9:30 a.m.-10 a.m.

—Characterization of Prey Diversity of the Commercially-Important Queen Snapper (Cartucho) Etelis oculatus—Stacey Williams/Diana Beltran

10 a.m.-10:15 a.m.

—Break

10:15 a.m.-10:45 a.m.

—Microplastics in the Caribbean Study—Dalila Aldana

10:45 a.m.-11:30 a.m.

—Outreach and Education Report—Alida Ortiz

—Social Media Report—Cristina Olán

11:30 a.m.-12 p.m.

—Liaison Officers Reports (10 minutes each)

—St. Croix—Mavel Maldonado

—St. Thomas/St. John—Nicole Greaux

—Puerto Rico—Wilson Santiago

12 p.m.-1 p.m.

—Lunch Break

1 p.m.-1:15 p.m.

—Recreational Fisheries Summit—Marcos Hanke/Carlos Farchette

1:15 p.m.-1:45 p.m.

—Fisher-Scientist Concepts—Marcos Hanke

1:45 p.m.-2:45 p.m.

—Enforcement Reports (15-minutes each):

—Puerto Rico—Department of Natural and Environmental Resources

—USVI—Department of Planning and Natural Resources

—U.S. Coast Guard

—NOAA Fisheries Office of Law Enforcement

2:45 p.m.-3 p.m.

—Break

3 p.m.-3:30 p.m.

—Other Business

3:30 p.m.-4 p.m.

—Public Comment Period (5-minute presentations)

—Next Meeting

Note (1): Other than starting time and dates of the meetings, the established times for addressing items on the agenda may be adjusted as necessary to accommodate the timely completion of discussion relevant to the agenda items. To further accommodate discussion and completion of all items on the agenda, the meeting may be extended from, or completed prior to the date established in this notice. Changes in the agenda will be posted to the CFMC website, Facebook, Twitter and Instagram as practicable.

Note (2): Financial disclosure forms are available for inspection at this meeting, as per 50 CFR part 601.

The order of business may be adjusted as necessary to accommodate the completion of agenda items. The meeting will begin on April 19, 2022, at 9 a.m. AST, and will end on April 20, 2022 at 4 p.m. AST. Other than the start time on the first day of the meeting, interested parties should be aware that discussions may start earlier or later than indicated in the agenda, at the discretion of the Chair.

Special Accommodations

Simultaneous interpretation will be provided. For simultaneous interpretation English-Spanish-English follow your Zoom screen instructions. You will be asked which language you prefer when you join the meeting.

For any additional information on this public virtual meeting, please contact Diana Martino, Caribbean Fishery Management Council, 270 Muñoz Rivera Avenue, Suite 401, San Juan, Puerto Rico, 00918-1903, telephone: (787) 226-8849.

Authority: 16 U.S.C. 1801 et seq.

Dated: March 28, 2022.
Tracey L. Thompson,
Acting Deputy Director, Office of Sustainable Fisheries, National Marine Fisheries Service.

[FR Doc. 2022-06840 Filed 3-31-22; 8:45 am]

BILLING CODE 3510-22-P